ENVIRONMENTAL PROTECTION AGENCY

[FRL-9492-4; EPA-HQ-OEI-2011-0366]

Amendment of Inspector General's Operation and Reporting (IGOR) System Investigative Files (EPA-40)

AGENCY: Environmental Protection Agency (EPA).

ACTION: Notice.

SUMMARY: Pursuant to the provisions of the Privacy Act of 1974 (5 U.S.C. 552a), the Office of Inspector General (OIG) is giving notice that it proposes to amend an existing system of records by changing the name of the system from the Inspector General's Operation and Reporting (IGOR) System Investigative Files (EPA-40) to the Inspector General Enterprise Management System (IGEMS) Investigative Module.

DATES: Effective Date: Persons wishing to comment on this system of records notice must do so by December 27, 2011.

ADDRESSES: Submit your comments, identified by Docket ID No. EPA-HQ-2011-0366, by one of the following methods:

• http://www.regulations.gov: Follow the online instructions for submitting comments.

• Email: oei.docket@epa.gov.

• Fax: (202) 566-1752.

• Mail: OEI Docket, Environmental Protection Agency, Mailcode: 2822T, 1200 Pennsylvania Ave. NW., Washington, DC 20460.

• Hand Delivery: OEI Docket, EPA/DC, EPA West Building, Room 3334, 1301 Constitution Ave. NW., Washington, DC. Such deliveries are only accepted during the Docket's normal hours of operation, and special arrangements should be made for deliveries of boxed information.

Instructions: Direct your comments to Docket ID No. EPA-HQ-2011-0366. EPA's policy is that all comments received will be included in the public docket without change and may be made available online at http://www.regulations.gov, including any personal information provided, unless the comment includes information claimed to be Confidential Business Information (CBI) or other information for which disclosure is restricted by statute. Do not submit information that you consider to be CBI or otherwise protected through http://www.regulations.gov. The http://www.regulations.gov Web site is an “anonymous access” system, which means EPA will not know your identity or contact information unless you provide it in the body of your comment. If you send an email comment directly to EPA without going through http://www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information for which disclosure is restricted by statute. Certain other material, such as copyrighted material, will be publicly available only in hard copy. Publicly available docket materials are available either electronically in http://www.regulations.gov or in hard copy at the OEI Docket, EPA/DC, EPA West Building, Room 3334, 1301 Constitution Ave. NW., Washington, DC. The Public Reading Room is open from 8:30 a.m. to 4:30 p.m., Monday through Friday excluding legal holidays. The telephone number for the Public Reading Room is (202) 566-1744, and the telephone number for the OEI Docket is (202) 566-1752.

FOR FURTHER INFORMATION CONTACT: Chris Han, (202) 566-2939.

SUPPLEMENTARY INFORMATION:

I. General Information

The Inspector General's Operation and Reporting (IGOR) System Investigative Files (EPA-40) will be changed to the Inspector General Enterprise Management System (IGEMS) Investigative Module. This system serves as the repository of information collected in the course of conducting investigations relating to programs and operations of the EPA. The privacy of individuals is protected through user authentication and system roles, permissions and privileges. The system is operated and maintained by the Office of Inspector General, Office of Mission Systems.

Dated: May 23, 2011.
Malcolm D. Jackson,
Assistant Administrator and Chief Information Officer.

EPA-40

System Name:

Inspector General Enterprise Management System (IGEMS) Investigative Module.

System Location:

Office of Inspector General, Environmental Protection Agency, 1200 Pennsylvania Avenue NW., Washington, DC 20460.

Categories of Individuals Covered by the System:

Investigative file information including the names, locations and other personal identifiers of individuals involved or participating in the OIG investigative process.

Categories of Records in the System:

Investigative files and materials collected during the investigative process, including but not limited to names of subjects of OIG investigations; cities, states, and EPA regions in which the subjects are located; names of complaints and witnesses interviewed during the investigations; documents and other records collected from public, business, government and other sources; forensic and other analyses; memoranda of investigative activities and contacts; electronic data; electronic images; and investigative tools.

Authority for Maintenance of the System (includes any revisions or amendments):

Inspector General Act of 1978, 5 U.S.C. app. 3.

Purpose(s):

To serve as the repository of information collected in the course of conducting investigations relating to programs and operations of the EPA.

Routine Uses of Records Maintained in the System, Including Categories of Users and the Purposes of Such Uses:

General routine uses A, B, C, D E, F, G, H, I, J, K and L apply to this system. Records may also be disclosed:

1. To a Federal agency responsible for considering suspension or debarment action where such record would be relevant to such action.

2. To the Department of Justice to obtain its advice on Freedom of Information Act matters.

3. In response to a lawful subpoena issued by a Federal agency.

4. To the Department of the Treasury and the Department of Justice when EPA is seeking an ex parte court order to obtain taxpayer information from the Internal Revenue Service.

5. To a Federal, State, local, foreign, or international agency, or other public authority, for use in a computer matching program, as that term is defined in 5 U.S.C. 552a(a)(8).

6. To a public or professional licensing organization if the record indicates, either by itself or in combination with other information, a violation or potential violation of professional standards, or reflects on the moral, educational, or professional qualifications of an individual who is licensed or who is seeking to become licensed.

7. To any person when disclosure of the record is needed to enable the recipient of the record to take action to recover money or property of the EPA, when such recovery will accrue to the benefit of the United States, or when disclosure of the record is needed to enable the recipient of the record to take appropriate disciplinary action to maintain the integrity of EPA programs or operations.

8. To officers and employees of other Federal agencies for the purpose of conducting quality assessments of the OIG.

9. To the news media and public when a public interest justifies the disclosure of information on public events such as indictments or similar activities.

10. To Members of Congress and the public in the OIG's Semiannual Report to Congress when the Inspector General determines that the matter reported is significant.

11. To the public when the matter under audit or investigation has become public knowledge, or when the Inspector General determines that such disclosure is necessary to preserve confidence in the integrity of the OIG audit or investigative process or is necessary to demonstrate the accountability of EPA officers, employees, or individuals covered by this system, unless it is determined that disclosure of the specific information in the context of a particular case could reasonably be expected to constitute an unwarranted invasion of personal privacy.

Policies and Practices For Storing, Retrieving, Accessing, Retaining, and Disposing of Records in the System:

• Storage: In a computer database and in hard copy.

• Retrievability: By names and other identifiers of subjects, complainants and witnesses interviewed during investigations; others involved in the investigative process; and investigative case file numbers.

• Safeguards: Computer records are maintained in a secure, password protected computer system. Paper records are maintained in lockable file cabinets. All records are maintained in secure, access-controlled areas or buildings.

• Retention and Disposal: Records stored in this system are subject to EPA Schedule 698.

• System Manager(s) and Address: Assistant Inspector General for Management, Office of Inspector General, Environmental Protection Agency, 1200 Pennsylvania Avenue NW., Washington, DC 20460.

Notification Procedures:

Requests to determine whether this system of records contains a record pertaining to you must be sent to the Agency's Freedom of Information Office. The address is: U.S. Environmental Protection Agency; 1200 Pennsylvania Ave NW., Room 6416 West; Washington, DC 20460; (202) 566-1667; Email: (hq.foia@epa.gov); Attn: Privacy Act Officer.

Record Access Procedure:

To the extent permitted under the Privacy Act of 1974, 5 U.S.C. 552a(j), (k)(2) & (k)(5), this system has been exempted from the provisions of the Privacy Act of 1974 that permit access and correction. However, EPA may in its discretion, fully grant individual requests for access and correction if it determines that the exercise of these rights will not interfere with an interest that the exemption is intended to protect. The exemption from access is limited in some instances by law to information that would reveal the identity of a confidential source. Requesters will be required to provide adequate identification, such as a driver's license, employee identification card or other identifying document. Additional identification procedures may be required in some instances.

Contesting Records Procedure:

Requests for correction or amendment must identify the record to be changed and the corrective action sought. EPA's Privacy Act regulations are set out in 40 CFR Part 16.

Record Source Categories:

Subjects of an investigation; present and former associations of the subjects (e.g., colleagues, business associates, acquaintances, or relatives); federal, state, local, international, and foreign investigative or law enforcement agencies; other government agencies; confidential sources; complainants; witnesses; concerned citizens; and public source materials.

Systems Exempted From Certain Provisions of the Act:

Under 5 U.S.C. 552a(j)(2), this system is exempt from the following provisions of the Privacy Act of 1974, as amended: 5 U.S.C. 552a(c)(3) and (4); (d); (e)(1), (e)(2), (e)(3), (e)(4)(G), (e)(4)(H), (e)(5), and (e)(8); (f); and (g). Under 5 U.S.C. 552a(k)(2) and (k)(5), this system is exempt from the following provisions of the Privacy Act of 1974 as amended, subject to the limitations set forth in this subsection; 5 U.S.C. 552a(c)(3); (d); (e)(1), (e)(4)(G), (e)(4)(H), and (f)(2) through (5).

[FR Doc. 2011-29655 Filed 11-15-11; 8:45 am]

BILLING CODE 6560-50-P